DEPARTMENT OF TRANSPORTATION

Federal Aviation Administration

14 CFR Part 39

[Docket No. 2000-CE-79-AD]

RIN 2120-AA64

Airworthiness Directives; Univair Aircraft Corporation Models (ERCO) 415-C, (ERCO) 415-CD, (ERCO) 415-D, (ERCO) 415-E, (ERCO) 415-G, (Forney) F-1, and (Forney) F-1A Airplanes

AGENCY: Federal Aviation Administration, DOT.

ACTION: Notice of proposed rulemaking (NPRM).

SUMMARY: This document proposes to supersede Airworthiness Directive (AD) 86-22-09, which applies to Univair Aircraft Corporation (Univair) Models (ERCO) 415-C, (ERCO) 415-CD, (ERCO) 415-D, (ERCO) 415-E, (ERCO) 415-G, (Forney) F-1, and (Forney) F-1A airplanes. AD 86-22-09 currently requires you to inspect the fuel line nipple for damage and replace any suspect part. AD 86-22-09 resulted from reports of failures of the fuel line nipple caused by improper installation or incorrect alignment. This proposed AD would require you to accomplish the following on airplanes with the gascolator connected to the side of the carburetor: Replace any aluminum fuel line nipple with a brass or steel fuel line nipple, inspect for the existence of double support tubes on the gascolator, and install these tubes if they do not exist. The proposed AD would not affect those airplanes with the gascolator mounted on the firewall. The proposed AD is the result of incidents where the fuel line nipple failed on the above-referenced airplanes. The actions specified by the proposed AD are intended to prevent failure of the fuel line nipple or the gascolator because of the current airplane design configuration (aluminum fuel line nipples or no double support tubes on the gascolator). Such failure could result in a lack of fuel to the engine with consequent loss of control of the airplane.

DATES: The Federal Aviation Administration (FAA) must receive any comments on this proposed rule on or before November 16, 2001.

ADDRESSES: Submit comments to FAA, Central Region, Office of the Regional Counsel, Attention: Rules Docket No. 2000-CE-79AD, 901 Locust, Room 506, Kansas City, Missouri 64106. You may view any comments at this location between 8 a.m. and 4 p.m., Monday through Friday, except Federal holidays.

You may get service information that applies to this proposed AD from Univair Aircraft Corporation, 2500 Himalaya Road, Aurora, Colorado 80011; telephone: (303) 375-8882; facsimile: (303) 375-8888. You may also view this information at the Rules Docket at the address above.

FOR FURTHER INFORMATION CONTACT: Satish Lall, Aerospace Engineer, FAA, Denver Aircraft Certification Office, 26805 East 68th Avenue, Room 214, Denver, Colorado 80249; telephone: (303) 342-1087; facsimile: (303) 342-1088.

SUPPLEMENTARY INFORMATION:

Comments Invited

How Do I Comment on This Proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention To?

The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How Can I Be Sure FAA Receives My Comment?

If you want FAA to acknowledge the receipt of your comments, you must include a self-addressed, stamped postcard. On the postcard, write “Comments to Docket No. 2000-CE-79-AD.” We will date stamp and mail the postcard back to you.

Discussion

Has FAA Taken Any Action to This Point?

Reports of fuel leakage due to cracked fuel line nipples on Univair 415 series and Models F1 and F1A airplanes caused FAA to issue AD 86-22-09, Amendment 39-5457. This AD requires you to do the following on Univair Models (ERCO) 415-C, (ERCO) 415-CD, (ERCO) 415-D, (ERCO) 415-E, (ERCO) 415-G, (Forney) F-1, and (Forney) F-1A airplanes:

—Inspect the fuel line nipple between the gascolator and the carburetor for cracks, incorrect alignment, or over torque; and

—Replace any suspect part.

These actions are specified in Univair Service Bulletin No. 24A, dated August 22, 1986.

What Has Happened Since AD 86-22-09 To Initiate This Action?

The FAA has received reports of failure of the aluminum fuel line nipple, part number AN911-2D, on airplanes that were in compliance with AD 86-22-09. In one instance, a Model (ERCO) 415-C made an emergency landing because the failure led to engine fuel starvation.

AD 86-22-09 requires a one-time inspection of the part number AN911-2D fuel line nipple. Since 15 years have passed since issuance of that AD, most of the affected airplanes have had this inspection accomplished. If the fuel line nipple was not suspect at the time of inspection, then final AD compliance was obtained. In 15 years, cracks could develop in the aluminum fuel line nipple on these airplanes in compliance with AD 86-22-09.

In addition, Univair Service Bulletin No. 24A, dated August 22, 1986, also specifies replacing any aluminum fuel line nipple with a brass or steel fuel line nipple and installing double support tubes on the gascolator for those airplanes with a gascolator connected to the side of the carburetor. AD 86-22-09 required the fuel line nipple replacement only if damage was found during the one-time inspection and did not require installation of the double support tubes.

The FAA's Determination and an Explanation of the Provisions of This Proposed AD

What Has FAA Decided?

After examining the circumstances and reviewing all available information related to the incidents described above, we have determined that:

—The unsafe condition referenced in this document exists or could develop on other Univair (ERCO) 415-C, (ERCO) 415-CD, (ERCO) 415-D, (ERCO) 415-E, (ERCO) 415-G, (Forney) F-1, and (Forney) F-1A airplanes of the same type design;

—The replacement and installation specified in the previously-referenced service information should be accomplished on the referenced airplanes that have the gascolator connected to the side of the carburetor; and

—AD action should be taken in order to correct this unsafe condition.

What Would This Proposed AD Require?

This proposed AD would supersede AD 86-22-09 with a new AD that would require you to accomplish the following on airplanes with the gascolator connected to the side of the carburetor:

—Replace any aluminum fuel line nipple with a brass or steel fuel line nipple; and

—Inspect for the existence of double support tubes on the gascolator and install these tubes if they do not exist.

The proposed AD would not affect those airplanes with the gascolator mounted on the firewall.

Cost Impact

How Many Airplanes Would This Proposed AD Impact

We estimate that this proposed AD would affect 2,500 airplanes in the U.S. registry.

What Would Be the Cost Impact of This Proposed AD on Owners/Operators of the Affected Airplanes

We estimate the following costs to accomplish the proposed replacement and installation:

Labor cost | Parts cost | Total cost per airplane | Total cost on U.S. operators
2 workhours at $60 per hour = $120 | $70 | $190 per airplane | $475,000

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations(14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 86-22-09, Amendment 39-5457, and by adding a new AD to read as follows:

Univair Aircraft Corporation: Docket No. 2000-CE-79-AD; Supersedes AD 86-22-09, Amendment 39-5457.

(a) What airplanes are affected by this AD? This AD affects all serial numbers of Models (ERCO) 415-C, (ERCO) 415-CD, (ERCO) 415-D, (ERCO) 415-E, (ERCO) 415-G, (Forney) F-1, and (Forney) F-1A airplanes that:

(1) Are certificated in any category; and

(2) Have the gascolator connected to the side of the carburetor. This AD does not affect those airplanes with the gascolator mounted on the firewall.

(b) Who must comply with this AD? Anyone who wishes to operate any of the above airplanes must comply with this AD.

(c) What problem does this AD address? The actions specified by this AD are intended to prevent failure of the fuel line nipple or the gascolator because of the current airplane design configuration (aluminum fuel line nipples or no double support tubes on the gascolator). Such failure could result in a lack of fuel to the engine with consequent loss of control of the airplane.

(d) What actions must I accomplish to address this problem? To address this problem, you must accomplish the following:

Actions | Compliance | Procedures
(1) Replace any aluminum fuel line nipple, part number AN911-2D (or FAA-approved equivalent part number), with one made of brass or steel, part number AN911-02 (or FAA-approved equivalent part number | Within the next 50 hours time-in-service (TIS) after the effective date of this AD, unless already accomplished | In accordance with Univair Service Bulletin No. 24A, dated August 22, 1986.
(2) Inspect for the existence of double support tubes on the gascolator and install these tubes if they do not exist, as follows: (i) For all affected airplanes except for (Forney) F-1 and (Forney) F-1A airplanes, install part numbers 48076 and 48096 (or FAA-approved equivalent part numbers) double support tubes; and (ii) For all affected (Forney) F-1 and (Forney) F-1A airplanes, install part numbers 48098 and 48099 (or FAA-approved equivalent part numbers) double support tubes | Inspect within the next 50 hours TIS after the effective date of this AD and install the double support tubes prior to further flight after the inspection, unless already accomplished | In accordance with Univair Service Bulletin No. 24A, dated August 22, 1986.
(3) Do not install, on any affected airplane, an aluminum fuel line nipple, part number AN911-2D (or FAA-approved equivalent part number) | As of the effective date of this AD | Not Applicable.
(4) Do not install a gascolator on the side of the carburetor on any affected airplane, unless the double support tubes specified in paragraph (d)(2)(i) or (d)(2)(ii) of this AD are installed | As of the effective date of this AD | Not Applicable.

(e) Can I comply with this AD in any other way?

(1) You may use an alternative method of compliance or adjust the compliance time if:

(i) Your alternative method of compliance provides an equivalent level of safety; and

(ii) The Manager, Denver Aircraft Certification Office, approves your alternative. Submit your request through an FAA Principal Maintenance Inspector, who may add comments and then send it to the Manager.

(2) Alternative methods of compliance approved in accordance with AD 86-22-09, which is superseded by this AD, are not approved as alternative methods of compliance with this AD.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Satish Lall, Aerospace Engineer, FAA, Denver Aircraft Certification Office, 26805 East 68th Avenue, Room 214, Denver, Colorado 80249; telephone: (303) 342-1087; facsimile: (303) 342-1088.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may get copies of the documents referenced in this AD from Univair Aircraft Corporation, 2500 Himalaya Road, Aurora, Colorado 80011; telephone: (303) 375-8882; facsimile: (303) 375-8888. You may view these documents at FAA, Central Region, Office of the Regional Counsel, 901 Locust, Room 506, Kansas City, Missouri 64106.

(i) Does this AD action affect any existing AD actions? This amendment supersedes AD 86-22-09, Amendment 39-5457.

Issued in Kansas City, Missouri, on September 27, 2001.
Dorenda Baker,
Acting Manager, Small Airplane Directorate, Aircraft Certification Service.

[FR Doc. 01-24782 Filed 10-3-01; 8:45 am]

BILLING CODE 4910-13-P